ENVIRONMENTAL PROTECTION AGENCY

[OPP-64048; FRL 6596-8]

Notice of Receipt of Requests for Amendments to Delete Uses in Certain Pesticide Registrations

AGENCY: Environmental Protection Agency (EPA).

ACTION: Notice.

SUMMARY: In accordance with section 6(f)(1) of the Federal Insecticide, Fungicide and Rodenticide Act (FIFRA), as amended, EPA is issuing a notice of receipt of request for amendment by registrants to delete uses in certain pesticide registrations.

DATES: Unless a request is withdrawn, the Agency will approve these use deletions and the deletions will become effective on January 16, 2001, unless indicated otherwise.

FOR FURTHER INFORMATION CONTACT: By mail: James A. Hollins, Office of Pesticide Programs (7502C), Environmental Protection Agency, 1200 Pennsylvania Avenue, N.W., Washington, DC 20460. Office location for commercial courier delivery, telephone number and e-mail address: Rm. 266A, Crystal Mall No. 2, 1921 Jefferson Davis Highway, Arlington, VA, (703) 305-5761; e-mail: hollins.james@epa.gov

SUPPLEMENTARY INFORMATION:

I. General Information

A. Does This Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional information, Including Copies of this Document and Other Related Documents?

1. Electronically. You may obtain electronic copies of this document and certain other related documents that might be available electronically, from the EPA Internet Home Page at http://www.epa.gov. To access this document, on the Home page select “Laws and Regulations” and then look up the entry for this document under the “Federal Register-Environmental Documents.” You can also go directly to the Federal Register listing at http://www.epa.gov/fedrgstr/.

2. In person. Contact James A. Hollins at 1921 Jefferson Davis Highway, Crystal Mall No. 2, Rm. 224, Arlington, VA, telephone number (703) 305-5761. Available from 7:30 a.m. to 4:45 p.m., Monday through Friday, excluding legal holidays.

II. What Action is the Agency Taking?

This notice announces receipt by the Agency of applications from registrants to delete uses in six pesticide registrations. These registrations are listed in the following Table 1 by registration number, product name/active ingredient and specific uses deleted:

Table 1.—Registrations with Requests for Amendments to Delete Uses In Certain Pesticide Registrations
EPA Reg. No. | Product Name | Active Ingredient | Delete From Label
*000264-00637 | Thiodan Technical | Endosulfan | All home & residential uses and any use other than commercial agricultural crops and commercial ornamentals, use in the form of fogger, insecticidal smoke, impregnated material, dust, pressurized liquid or pressurized spray, citrus fruits (except non-bearing trees and nursery stock), clover-forage (except grown for seed only), corn field/forage, endive, evening primrose, garden beets, garlic, rapeseed (including canola)-oil crop and grown for seed only, household or domestic dwelling (indoor contents), wood protection treatment-existing buildings or part of buildings, unseasoned forest products, ULV application, douglas fir (forest), forest planting (reforestation program), juniper, locust, maple, willow, commercially grown greenhouse/out-of-doors ornamental plants (except for commercially grown outdoor trees and shrubs)- including but not limited to aster, carnation, chrysanthemum, evening primrose, iris, lilies, marigold, poinsettia, snapdragon, tulips, croft lily, german lily, hydrangea, periwinkle, rhododendron, rose, rhododendron canescens, flowering peach/nectarine, leatherleaf fern, holly fern, any use in or around a structure used as a residence or domestic dwelling, or on any articles or areas associated with such structures (including household contents, home gardens, and home greenhouses), or any use (in the form of a fogger, dust, pressurized liquid or spray) inside a public building or structure, including recreational facilities, theaters, hotels, resorts, or other buildings used for public accommodation.
*000279-02306 | Thiodan Technical Insecticide | Endosulfan | All home & residential uses and any use other than commercial agricultural crops and commercial ornamentals, use in the form of fogger, insecticidal smoke, impregnated material, dust, pressurized liquid or pressurized spray, citrus fruits (except non-bearing trees and nursery stock), clover-forage (except grown for seed only), corn field/forage, endive, evening primrose, garden beets, garlic, rapeseed (including canola)-oil crop and grown for seed only, household or domestic dwelling (indoor contents), wood protection treatment-existing buildings or parts of buildings, unseasoned forest products, ULV application, douglas fir (forest), forest planting (reforestation program), juniper, locust, maple, willow, commercially grown greenhouse/out-of-doors ornamental plants (except for commercially grown outdoor trees and shrubs)- including but not limited to aster, carnation, chrysanthemum, evening primrose, iris, lilies, marigold, poinsettia, snapdragon, tulips, croft lily, german lily, hydrangea, periwinkle, rhododendron, rose, rhododendron canescens, flowering peach/nectarine, leatherleaf fern, holly fern, any use in or around a structure used as a residence or domestic dwelling, or on any articles or areas associated with such structures (including household contents, home gardens, and home greenhouses), or any use (in the form of a fogger, dust, pressurized liquid or spray) inside a public building or structure, including recreational facilities, theaters, hotels, resorts, or other buildings used for public accommodation.
002217-00703 | Acme Hi-Dep Herbicide | Diethanolamine (2,4-dichlorophenoxy) acetate | Vineyard use
010951-00010 | Britz BT 25 Sulfur Dust | Bacillus thuringiensis subsp. Kurstaki; Sulfur) | Use on cucumbers (Southeastern U.S. only)
*011678-00005 | Thionex Endosulfan Technical | Endosulfan | All home & residential uses and any use other than commercial agricultural crops and commercial ornamentals, use in the form of fogger, insecticidal smoke, impregnated material, dust, pressurized liquid or pressurized spray, citrus fruits (except non- bearing trees and nursery stock), clover-forage (except grown for seed only), corn field/forage, endive, evening primrose, garden beets, garlic, rapeseed (including canola)-oil crop and grown for seed only, household or domestic dwelling (indoor contents), wood protection treatment-existing buildings or parts of buildings, unseasoned forest products, ULV application, douglas fir (forest), forest planting (reforestation program), juniper, locust, maple, willow, commercially grown greenhouse/out-of-doors ornamental plants (except for commercially grown outdoor trees and shrubs)- including but not limited to aster, carnation, chrysanthemum, evening primrose, iris, lilies, marigold, poinsettia, snapdragon, tulips, croft lily, german lily hydrangea, periwinkle, rhododendron, rose, rhododendron canescens, flowering peach/nectarine, leatherleaf fern, holly fern, any use in or around a structure used as a residence or domestic dwelling, or on any articles or areas associated with such structures (including household contents, home gardens, and home greenhouses), or any use (in the form of a fogger, dust, pressurized liquid or spray) inside a public building or structure, including recreational facilities, theaters, hotels, resorts, or other buildings used for public accommodation.
*019713-00319 | Endosulfan Technical | Endosulfan | All home & residential uses and any use other than commercial agricultural crops and commercial ornamentals, use in the form of fogger, insecticidal smoke, impregnated material, dust, pressurized liquid or pressurized spray, citrus fruits (except non-bearing trees and nursery stock), clover-forage (except grown for seed only), corn field/forage, endive, evening primrose, garden beets, garlic, rapeseed (including canola)-oil crop and grown for seed only, household or domestic dwelling (indoor contents), wood protection treatment-existing buildings or parts of buildings, unseasoned forest products, ULV application, douglas fir (forest), forest planting (reforestation program, juniper, locust, maple willow, commercially grown greenhouse/out of doors ornamental plants (except for commercially grown outdoor trees and shrubs)- including but not limited to aster, carnation, chrysanthemum, evening primrose, iris, lilies, marigold, poinsettia, snapdragon, tulips, croft lily, german lily, hydrangea, periwinkle, rhododendron, rose, rhododendron canescens, flowering peach/nectarine, leatherleaf fern, holly fern, any use in or around a structure used as a residence of domestic dwelling, or on any articles or areas associated with such structures (including household contents, home gardens and home greenhouses), or any use (in the form of a fogger, dust, pressurized liquid or spray) inside a public building or structure, including recreational facilities, theaters, hotels, resorts, or other buildings used for public accommodation.
Note: *30-day comment period.

Users of these products who desire continued use on crops or sites being deleted should contact the applicable registrant before January 16, 2001, unless a shorter comment was indicated, to discuss withdrawal of the application for amendment. This 180-day period will also permit interested members of the public to intercede with registrants prior to the Agency's approval of the deletion.

The following Table 2 includes, the names and addresses of record for all registrants of the products in Table 1, in sequence by EPA company number.

Table 2.—Registrants Requesting Amendments to Delete Uses in Certain Pesticide Registrations
EPA Company Number | Company Name and Address
000264 | Aventis CropScience, 2 TW Alexander Drive, Research Triangle Park, NC 27709.
000279 | FMC Corporation, Agricultural Products Group, 1735 Market Street, Philadelphia, PA 19103.
002217 | PBI/Gordon Corporation, P.O. Box 014090, Kansas City, MO 64101.
010951 | Britz Fertilizers, Inc., P.O. Box 336, Five Points, CA 93624.
011678 | Makhteshim-Agan of North America, Inc., 551 Fifth Ave., Suite 1100, New York, NY 10176.
019713 | Drexel Chemical Company, 1700 Channel Avenue, P.O. Box 13327, Memphis, TN 38113.

III. What is the Agency Authority for Taking This Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. How and to Whom Do I Submit Withdrawal Requests?

1. By mail. Registrants who choose to withdraw a request for use deletion must submit such withdrawal in writing to James A. Hollins, at the address given above, postmarked January 16, 2001, unless indicated otherwise.

2. In person or by courier. Deliver your withdrawal request to: Document Processing Desk (DPD), Information Services Branch, Office of Pesticide Programs (OPP), Environmental Protection Agency, Rm. 266A, Crystal Mall 2, 1921 Jefferson Davis Highway, Arlington, VA. The DPD is open from 8:00 a.m. to 4:30 p.m., Monday through Friday, excluding legal holidays. The DPD telephone number is (703) 305-5263.

3. Electronically. You may submit your withdrawal request electronically by e-mail to: hollins.james@epa.gov. Do not submit any information electronically that you consider to be CBI. Avoid the use of special characters and any form of encryption. Electronic submissions will be accepted in WordPerfect 6.1/8.0 or ASCII file format.

V. Provisions for Disposition of Existing Stocks

The Agency has authorized the registrants to sell or distribute product under the previously approved labeling for a period of 18 months after approval of the revision, unless other restrictions have been imposed, as in special review actions.

List of Subjects

Environmental protection, Pesticides and pests, Product registrations.

Dated: June 30, 2000.
Richard D. Schmitt,
Associate Director, Information Resources Services Division, Office of Pesticide Programs.

[FR Doc. 00-18265 Filed 7-18-00; 8:45 am]

BILLING CODE 6560-50-F